DEPARTMENT OF STATE

[Public Notice 3563]

Culturally Significant Objects Imported for Exhibition Determinations: “Andreas Gursky”

AGENCY: United States Department of State.

ACTION: Notice.

SUMMARY: Notice is hereby given of the following determinations: Pursuant to the authority vested in me by the Act of October 19, 1965 (79 Stat. 985, 22 U.S.C. 2459), the Foreign Affairs Reform and Restructuring Act of 1998 (112 Stat. 2681, et seq.), Delegation of Authority No. 234 of October 1, 1999, and Delegation of Authority No. 236 of October 19, 1999, as amended, I hereby determine that the objects to be included in the exhibition “Andreas Gursky,” imported from abroad for the temporary exhibition without profit within the United States, are of cultural significance. The objects are imported pursuant to a loan agreement with the foreign lender. I also determine that the exhibition or display of the exhibit objects at the Museum of Modern Art, in New York, NY, from on or about February 28, 2001 to on or about May 15, 2001 and the Museum of Contemporary Art in Chicago, IL from on or about June 15, 2002 to on or about September 22, 2002, is in the national interest. Public Notice of these Determinations is ordered to be published in the Federal Register.

FOR FURTHER INFORMATION CONTACT: For further information, including a list of the exhibit objects, contact Carol Epstein, Attorney-Adviser, Office of the Legal Adviser, U.S. Department of State (telephone: 202/619-6981). The address is U.S. Department of State, SA-44, 301 4th Street, SW., Room 700, Washington, DC 20547-0001.

Dated: January 24, 2001.
Helena Kane Finn,
Acting Assistant Secretary for Educational and Cultural Affairs, United States Department of State.

[FR Doc. 01-2860 Filed 1-31-01; 8:45 am]

BILLING CODE 4710-08-U